FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 27, 2010.

A. Federal Reserve Bank of St. Louis (Glenda Wilson, Community Affairs Officer) P.O. Box 442, St. Louis, Missouri 63166-2034:

1. George J. Shackelford, Coila, Mississippi; to acquire additional voting shares of Peoples Commerce Corporation, and thereby indirectly acquire additional voting shares of Peoples Bank and Trust Company, both of North Carrollton, Mississippi.

B. Federal Reserve Bank of Dallas (E. Ann Worthy, Vice President) 2200 North Pearl Street, Dallas, Texas 75201-2272:

1. John D. Mican, Bastrop, Texas; Robert E. Berryhill, Smithville, Texas; Tammy L. Goertz, Rosansky, Texas; and Dianna L. Kana, Bastrop, Texas, individually and collectively as co-trustees of the Bastrop Bancshares, Inc. Employee Stock Ownership Plan (“ESOP”) and on behalf of ESOP; to acquire voting shares of Bastrop Bancshares, Inc., and thereby indirectly acquire voting shares of The First National Bank of Bastrop, both of Bastrop, Texas.

Board of Governors of the Federal Reserve System, August 9, 2010.
Robert deV. Frierson,
Deputy Secretary of the Board.

[FR Doc. 2010-19948 Filed 8-12-10; 8:45 am]

BILLING CODE 6210-01-S